NATIONAL TRANSPORTATION SAFETY BOARD

Sunshine Act Meeting

TIME AND DATE: 9:30 a.m., Tuesday, June 24, 2014.

PLACE: NTSB Conference Center, 429 L'Enfant Plaza SW., Washington, DC 20594.

STATUS: The one item is open to the public.

MATTERS TO BE CONSIDERED: 8518A Aviation Accident Report—Descent Below Visual Glidepath and Impact with Seawall, Asiana Airlines Flight 214, Boeing 777-200ER, HL7742, San Francisco, California, July 6, 2013.

News Media Contact: Telephone: (202) 314-6100. The press and public may enter the NTSB Conference Center one hour prior to the meeting for set up and seating.

Individuals requesting specific accommodations should contact Rochelle Hall at (202) 314-6305 or by email at Rochelle.Hall@ntsb.gov by Wednesday, June 18, 2014.

The public may view the meeting via a live or archived Web cast by accessing a link under “News & Events” on the NTSB home page at www.ntsb.gov.

Schedule updates including weather-related cancellations are also available at www.ntsb.gov.

FOR MORE INFORMATION CONTACT: Candi Bing, (202) 314-6403 or by email at bingc@ntsb.gov.

FOR MEDIA INFORMATION CONTACT: Keith Holloway, (202) 314-6100 or by email at keith.holloway@ntsb.gov.

Dated: Thursday, June 5, 2014.
Candi R. Bing,
Federal Register Liaison Officer.

[FR Doc. 2014-13503 Filed 6-6-14; 11:15 am]

BILLING CODE 7533-01-P